DEPARTMENT OF ENERGY

Federal Energy Regulatory Commission

Combined Notice of Filings

Take notice that the Commission has received the following Natural Gas Pipeline Rate and Refund Report filings:

Filings Instituting Proceedings

Docket Numbers: RP14-1037-000.

Applicants: Empire Pipeline, Inc.

Description: Negotiated Rate & Non-conforming (Sithe/Independence) to be effective 6/5/2014.

Filed Date: 6/5/14.

Accession Number: 20140605-5062.

Comments Due: 5 p.m. ET 6/17/14.

Docket Numbers: RP14-1038-000.

Applicants: Alliance Pipeline L.P.

Description: June 7-30 2014 Auction to be effective 6/7/2014.

Filed Date: 6/5/14.

Accession Number: 20140605-5145.

Comments Due: 5 p.m. ET 6/17/14.

Docket Numbers: RP14-1039-000.

Applicants: Enable Gas Transmission, LLC.

Description: Negotiated Rate Filing—June 2014 LER 1010222 Att A to be effective 6/5/2014.

Filed Date: 6/5/14.

Accession Number: 20140605-5147.

Comments Due: 5 p.m. ET 6/17/14.

Docket Numbers: RP14-1040-000.

Applicants: Gulf Shore Energy Partners, LP.

Description: Gulf Shore Energy Partners—Negotiated Rate Filing to be effective 6/6/2014.

Filed Date: 6/6/14.

Accession Number: 20140606-5074.

Comments Due: 5 p.m. ET 6/18/14.

Docket Numbers: RP14-1041-000.

Applicants: Columbia Gulf Transmission, LLC.

Description: Negotiated & Non-Conforming Agreements—ELEOP to be effective 5/1/2014.

Filed Date: 6/6/14.

Accession Number: 20140606-5105.

Comments Due: 5 p.m. ET 6/18/14.

Docket Numbers: RP14-408-000.

Applicants: Trailblazer Pipeline Company LLC.

Description: Whiting Redtail Lateral in service on 2-10-2014.

Filed Date: 6/6/14.

Accession Number: 20140606-5185.

Comments Due: 5 p.m. ET 6/18/14.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 09, 2014,
Kimberly D. Bose,
Secretary.

[FR Doc. 2014-14072 Filed 6-16-14; 8:45 am]

BILLING CODE 6717-01-P